DEPARTMENT OF THE INTERIOR

National Park Service

[NPS-WASO-NAGPRA-11493; 2200-1100-665]

Notice of Inventory Completion: U.S. Department of Agriculture, Forest Service, Ozark-St. Francis National Forests, Russellville, AR

AGENCY: National Park Service, Interior.

ACTION: Notice.

SUMMARY: The U.S. Department of Agriculture (USDA), Forest Service, Ozark-St. Francis National Forests has completed an inventory of human remains and associated funerary objects, in consultation with the appropriate Indian tribes, and has determined that there is a cultural affiliation between the human remains and associated funerary objects and present-day Indian tribes. Representatives of any Indian tribe that believes itself to be culturally affiliated with the human remains and associated funerary objects may contact the Ozark-St. Francis National Forests. Repatriation of the human remains and associated funerary objects to the Indian tribes stated below may occur if no additional claimants come forward.

DATES: Representatives of any Indian tribe that believes it has a cultural affiliation with the human remains and associated funerary objects should contact the Ozark-St. Francis National Forests at the address below by December 17, 2012.

ADDRESSES: Judith L. Henry, Forest Supervisor, USDA Forest Service, Ozark-St. Francis National Forests, Russellville, AR 72801, telephone (479) 964-7202.

SUPPLEMENTARY INFORMATION: Notice is here given in accordance with the Native American Graves Protection and Repatriation Act (NAGPRA), 25 U.S.C. 3003, of the completion of an inventory of human remains and associated funerary objects in the possession of the Ozark-St. Francis National Forests. The human remains and associated funerary objects were removed from private land and donated to the Ozark-St. Francis National Forests by private collectors.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Ozark-St. Francis National Forests professional staff in consultation with representatives of the Absentee-Shawnee Tribe of Indians of Oklahoma; Alabama-Quassarte Tribal Town; Caddo Nation of Oklahoma; Cherokee Nation; Chickasaw Nation; Choctaw Nation of Oklahoma; Delaware Nation, Oklahoma; Eastern Shawnee Tribe of Oklahoma; Jena Band of Choctaw Indians; Kialegee Tribal Town; Miami Tribe of Oklahoma; Mississippi Band of Choctaw Indians; Peoria Tribe of Indians of Oklahoma; Quapaw Tribe of Indians; Shawnee Tribe; The Muscogee (Creek) Nation; The Osage Nation (previously listed as the Osage Tribe); The Seminole Nation of Oklahoma; Thlopthlocco Tribal Town; Tunica-Biloxi Indian Tribe; United Keetoowah Band of Cherokee Indians in Oklahoma; and the Wichita and Affiliated Tribes (Wichita, Keechi, Waco & Tawakonie), Oklahoma.

History and Description of the Remains

In 1970 and 1971, human remains representing, at minimum, 16 individuals were removed from site 3NW101, on private property, in Newton County, AR, by Thelma and Louis Gregoire of the AAS. In 1988, they donated their collection to the USDA-Forest Service. No known individuals were identified. The 74 associated funerary objects from identified burials include 25 ceramic vessels, 15 dart points, 19 knives, 2 blanks, 6 scrapers, 1 perforator, 1 chisel, 1 gorget, 1 charcoal sample, 1 flake, 1 axe, and 1 deer mandible. Two funerary objects were reported by the Gregoires but were missing when the collection was donated; they are 1 elbow pipe and 1 mano. The site dates from A.D. 653 to 881. It is affiliated to the Caddo Nation of Oklahoma through the Fourche Maline-related archeological complexes (e.g. Mulberry River Culture and Limestone Complex).

Determinations Made by the USDA Forest Service, Ozark-St. Francis National Forests

Officials of the USDA Forest Service, Ozark-St. Francis National Forests have determined that:

• Pursuant to 25 U.S.C. 3001(9), the human remains described in this notice represent the physical remains of 16 individuals of Native American ancestry.

• Pursuant to 25 U.S.C. 3001(3)(A), the 74 objects described above are reasonably believed to have been placed with or near individual human remains at the time of death or later as part of the death rite or ceremony.

• Pursuant to 25 U.S.C. 3001(2), there is a relationship of shared group identity that can be reasonably traced between the Native American human remains and associated funerary objects and the Caddo Nation of Oklahoma.

Additional Requestors and Disposition

Representatives of any Indian tribe that believes itself to be culturally affiliated with the human remains and associated funerary objects should contact Judith L. Henry, Forest Supervisor, USDA Forest Service Ozark-St. Francis National Forests, Russellville, AR 72801, telephone (479) 964-7202, before December 17, 2012. Repatriation of the human remains and associated funerary objects to the Caddo Nation of Oklahoma may proceed after that date if no additional claimants come forward.

The USDA Forest Service, Ozark-St. Francis National Forests, is responsible for notifying the Absentee-Shawnee Tribe of Indians of Oklahoma; Alabama-Quassarte Tribal Town; Caddo Nation of Oklahoma; Cherokee Nation; Chickasaw Nation; Choctaw Nation of Oklahoma; Delaware Nation, Oklahoma; Eastern Shawnee Tribe of Oklahoma; Jena Band of Choctaw Indians; Kialegee Tribal Town; Miami Tribe of Oklahoma; Mississippi Band of Choctaw Indians; Peoria Tribe of Indians of Oklahoma; Quapaw Tribe of Indians; Shawnee Tribe; The Muscogee (Creek) Nation; The Osage Nation (previously listed as the Osage Tribe); The Seminole Nation of Oklahoma; Thlopthlocco Tribal Town; Tunica-Biloxi Indian Tribe; United Keetoowah Band of Cherokee Indians in Oklahoma; and the Wichita and Affiliated Tribes (Wichita, Keechi, Waco & Tawakonie), Oklahoma, that this notice has been published.

Dated: October 12, 2012.
Sherry Hutt,
Manager, National NAGPRA Program.

[FR Doc. 2012-27952 Filed 11-15-12; 8:45 am]

BILLING CODE 4312-50-P